ENVIRONMENTAL PROTECTION AGENCY

[FRL-9644-2; CERCLA-04-2012-3763]

Anniston PCB Superfund Site; Anniston, Calhoun County, AL; Correction

AGENCY: Environmental Protection Agency.

ACTION: Notice of Correction to Federal Register Posting.

SUMMARY: In the Federal Register published on February 27, 2012, 77 FR 11533 (FRL-9637-7), EPA posted a Notice of Amended Settlement concerning the Anniston PCB Superfund Site located in Anniston. The settlement is not an amendment, but a new settlement at this Site. The comment period will remain the same and end on March 28, 2012.

DATES: The Agency will consider public comments on the settlement until March 28, 2012. The Agency will consider all comments received and may modify or withdraw its consent to the settlement if comments received disclose facts or considerations which indicate that the settlement is inappropriate, improper, or inadequate.

ADDRESSES: Copies of the settlement are available from Ms. Paula V. Painter. Submit your comments by Site name Anniston PCB by one of the following methods:

• www.epa.gov/region4/superfund/programs/enforcement/enforcement.html.

• Email: Painter.Paula@epa.gov.

FOR FURTHER INFORMATION CONTACT: Paula V. Painter at 404/562-8887.

Dated: February 27, 2012.
Anita L. Davis,
Chief, Superfund Enforcement & Information Management Branch, Superfund Division.

[FR Doc. 2012-5542 Filed 3-6-12; 8:45 am]

BILLING CODE 6560-50-P